DEPARTMENT OF THE INTERIOR

National Park Service

Notice of Inventory Completion: Thomas Burke Memorial Washington State Museum, University of Washington, Seattle, WA

AGENCY: National Park Service, Interior.

ACTION: Notice.

Notice is here given in accordance with the Native American Graves Protection and Repatriation Act (NAGPRA), 25 U.S.C. 3003, of the completion of an inventory of human remains in the possession of the Thomas Burke Memorial Washington State Museum (Burke Museum), University of Washington, Seattle, WA. The human remains were removed from Okanogan County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Burke Museum professional staff in consultation with representatives of the Confederated Tribes of the Colville Reservation, Washington.

In 1908, human remains representing a minimum of one individual were removed from Winthrop in Okanogan County, WA, by CPT Frank Lord. In 1910, the human remains were received from Captain Lord and accessioned by the Burke Museum (Burke Accn. No. 242). No known individual was identified. No associated funerary objects are present.

The human remains had previously been identified non- Native American. However, after further review, the preponderance of the evidence identifies the human remains as Native American. The original donor identified the human remains as “Indian”. The majority of the osteological evidence identified by physical anthropologists determined that the human remains are Native American.

According to early and late ethnographic documentation the Methow Tribe are the aboriginal occupants of the Winthrop area (Miller 1998; Mooney 1896; Ray 1936; Spier 1936). The Colville Reservation was established by Executive Order in 1872 for Methow Tribe and other tribes. The Moses Columbia Reservation was later established in 1879 and also included members of the Methow Tribe. In 1886, the Moses Columbia Reservation was disbanded and the residents were moved to the Colville Reservation. Descendants of the Methow Tribe are members of the Confederated Tribes of the Colville Reservation, Washington.

Officials of the Burke Museum have determined that, pursuant to 25 U.S.C. 3001 (9-10), the human remains described above represent the physical remains of one individual of Native American ancestry. Officials of the Burke Museum also have determined that, pursuant to 25 U.S.C. 3001 (2), there is a relationship of shared group identity that can be reasonably traced between the Native American human remains and the Confederated Tribes of the Colville Reservation, Washington.

Representatives of any other Indian tribe that believes itself to be culturally affiliated with the human remains should contact Dr. Peter Lape, Burke Museum, University of Washington, Box 353010, Seattle, WA 98195-3010, telephone (206) 685-2282, before April 16, 2007. Repatriation of the human remains to the Confederated Tribes of the Colville Reservation, Washington may proceed after that date if no additional claimants come forward.

The Burke Museum is responsible for notifying the Confederated Tribes of the Colville Reservation, Washington that this notice has been published.

Dated: January 26, 2007.
Sherry Hutt,
Manager, National NAGPRA Program.

[FR Doc. E7-4732 Filed 3-14-07; 8:45 am]

BILLING CODE 4312-50-S